DEPARTMENT OF STATE

22 CFR Parts 22, 23 and 51

[Public Notice 3254]

Schedule of Fees for Consular Services; Finance and Accounting; and Passports and Visas

AGENCY: Bureau of Consular Affairs, State Department.

ACTION: Direct final rule.

SUMMARY: This direct final rule replaces the existing fee charged for each passport issued, that is refunded when a passport is not issued, with a non-refundable fee charged for each application filed for a passport. Accordingly, the Department of State will refund the passport application fee only when the fee has been collected in error. The Department will not refund the fee paid for a passport application when, after processing, it is determined that the applicant will not be issued a passport. Nor will the Department refund a passport application fee to the executor or administrator of the estate of the deceased bearer of an unused passport, or refund a passport application fee to any person issued a passport who has been refused a visa by a foreign government. The rule provides, however, that a person, whose passport application is denied, may have the application reconsidered without being required to pay an additional application fee by submitting adequate documentation that overcomes the reason for denial within 90 days from the date of the denial notice.

DATES: This rule is effective May 15, 2000 without further action, unless adverse comment is received by April 17, 2000. If adverse comment is received and is well-taken, the Department of State will publish a timely withdrawal of the rule in the Federal Register, and it will not take effect.

ADDRESSES: Written comments should be addressed to: Chief, Legal Division, Office of Passport Policy, Planning and Advisory Services, 1111 19th Street, N.W., Suite 260, Washington, D.C. 20524.

FOR FURTHER INFORMATION CONTACT: Sharon Palmer-Royston, Office of Passport Policy, Planning and Advisory Services, Bureau of Consular Affairs, Department of State (202) 955-0231; telefax (202) 955-0230.

SUPPLEMENTARY INFORMATION:

Background

Section 1 of the Passport Act of June 4, 1920 (22 U.S.C. 214) previously provided for payment into the Treasury of a fee, prescribed by the Secretary of State by regulation, for “each passport issued”, and a fee for executing “each application for a passport”. Congress enacted Section 233 of Pub.L. 106-113, November 29, 1999, which amended Section 1 of the Passport Act by striking those provisions and inserting in their place the requirement for payment of a fee for “the filing of each application for a passport (including the cost of passport issuance and use)” and a fee for executing “each such application” for a passport. Section 233 further provides that “such fees shall not be refundable, except as the Secretary may by regulation prescribe”. Section 233 also repealed Section 4 of the Passport Act of 1920 (22 U.S.C. 216), which authorized the refund of the fees paid by the person to whom a passport was issued, whenever the appropriate officer within the United States of any foreign country refuses to issue a visa in a passport issued by the United States, upon request in writing and return of an unused passport within six months from the date of issue.

This direct final rule implements Section 233 of Pub.L. 106-113 by amending the existing Schedule of Fees for Consular Services in the list of Passport and Citizenship Services under 22 CFR 22.1, to change “issuance” to “application”, and amends 22 CFR 22.6 by deleting the provision for the refund of the passport fee pursuant to 22 U.S.C. 216. This rule also amends the regulations governing passport fees in 22 CFR 51.61(a), by changing the “fee for each passport issued” to a “fee for each passport application filed”, and amends 22 CFR 51.63 by changing “passport fee” to “passport application fee” and by deleting paragraphs (b), (c) and (d).

The effect of this rule is that the Department of State will not refund the fee paid for a passport application when the Department determines, after processing, that a passport may not be issued pursuant to the regulations governing passports. Nor will the Department refund a passport application fee to any person who, after a passport has been issued to them, has been refused a visa by a foreign government. Further, the Department will not refund a passport application fee to the executor or administrator of the estate of the deceased bearer of an unused passport. A refund will not be made in those cases, because the application for a passport will have been processed in accordance with the fee paid for the application.

However, the Department recognizes that there are cases where an application for issuance of a passport will be denied on the sole ground of inadequate documentation or for a reason that can be cured by the provision of further documentation. In those cases, a new application fee should not be required when the applicant provides acceptable documentation in a timely manner so that a passport is issued. A person whose application for a passport has been denied, moreover, is informed in writing of the specific reason(s) for the denial, as provided by regulation. Therefore, this rule also provides that a person, whose passport application has been denied, may have the denied application reconsidered without payment of an additional passport application fee by submitting adequate documentation within 90 days from the date of the notice of denial. The term “adequate documentation” includes evidence that the applicant is in the process of obtaining the necessary documents, which may have been missing or lost and may require considerable time to obtain or replace. The denial becomes final, however, if adequate documentation is not submitted before the elapse of 90 days after the date of the denial notice. The Department's passport regulations do not preclude a person, whose passport application has been denied, from subsequently submitting a new passport application with payment of a new application fee.

This rule does not affect the fee for executing an application for a passport, which cannot be refunded pursuant to the existing regulation in 22 CFR 51.65. Therefore, the Department will refund the passport application fee and the fee for executing an application for a passport only in cases when the fee was collected in error from persons exempted from payment by law, or the fee collected was in excess of the prescribed fee, as is currently provided by regulation.

This rule is effective May 15, 2000. If adverse comment is received and is well-taken, the Department of State will publish a timely withdrawal of the rule in the Federal Register. If an adverse comment applies to an amendment, paragraph, or section of this rule and that provision may be addressed separately from the remainder of the rule, the Department may adopt as final those provisions of the rule that are not the subject of an adverse comment.

The Department does not consider this rule to be a major rule for purposes of E.O. 12291. These changes to the regulations are hereby certified as not expected to have a significant impact on a substantial number of small entities under the criteria of the Regulatory Flexibility Act, 5 U.S.C. 605(b). This rule does not impose information collection requirements under the provisions of the Paperwork Reduction Act, 44 U.S.C., Chapter 35. Nor does the rule have federalism implications warranting the application of Executive Order No. 12372 and No. 13132. This rule is exempt from E.O. 12866, but the Department has reviewed the rule to ensure consistency with the objectives of the Executive Order, as well as with E.O. 12988, and the Office of Management and Budget has determined this rule would not constitute a significant regulatory action under E.O. 12866.

List of Subjects

22 CFR Part 22

Foreign Service, Fees, Passports and visas.

22 CFR Part 23

Foreign Service.

22 CFR Part 51

Administrative practice and procedure, Drug traffic control, Passports and visas.

Accordingly, this rule amends 22 CFR Chapter I as follows:

PART 22—[AMENDED]

1. The authority citation for Part 22 continues to read as follows:

Authority: 8 U.S.C. 1153 note. 1351, 1351 note; 10 U.S.C. 2602(c); 22 U.S.C. 214, 2504(a), 4201, 4206, 4215, 4219; 31 U.S.C. 9701; E.O. 10718, 22 FR 4632, 3 CFR, 1954-1958 Comp., p. 382; E.O. 11295, 31 FR 10603, 3 CFR, 1966-1970 Comp., p. 570.

2. Section 22.1 is amended by revising the introductory text of paragraphs (b) and (c) at item 1. to read as follows:

§ 22.1 Schedule of fees.

Item No. Fee

Passport and Citizenship Services

1. Passport Services:

* * * * *

(b) First-time application:

* * * * *

(c) Subsequent application (renewal):

* * * * *

3. Section 22.6 is amended by revising the word “refunded” to read “refund” both times it appears in paragraph (a)(3) and by revising paragraph (a)(1) to read as follows:

§ 22.6 Refund of fees.

(a) * * *

(1) As specifically authorized by law (See 22 U.S.C. 214a concerning passport fees erroneously charged persons excused from payment and 46 U.S.C. 8 concerning fees improperly imposed on vessels and seamen);

* * * * *

PART 23—[AMENDED]

1. The authority citation for Part 23 is revised to read as follows:

Authority: 22 U.S.C. 2651a.

2. Section 23.3 is amended by revising paragraph (a) to read as follows:

§ 23.3 Refunds.

(a) Rectifications and readjustments. See § 22.6 of this chapter for outline of circumstances under which fees which have been collected for deposit in the Treasury may be refunded.

* * * * *

PART 51—[AMENDED]

1. The authority citation for Part 51 is revised to read as follows:

Authority: 22 U.S.C. 211a; 22 U.S.C. 2651a, 2671(d)(3), 2714 and 3926; 31 U.S.C. 9701; E.O. 11295, 3 CFR, 1966-1970 Comp., p 570; sec. 129, Pub. L. 102-138, 105 Stat. 661; 8 U.S.C. 1504.

2. Section 51.61 is amended by revising paragraph (a) to read as follows:

§ 51.61 Passport fees.

* * * * *

(a) A fee for each passport application filed, which fee shall vary depending on whether the passport applicant is a first-time applicant or a renewal applicant and on the age of the applicant. The passport application fee shall be paid by all applicants at the time of application, except as provided in § 51.62(a), and is not refundable, except as provided in § 51.63. However, an applicant's denied application for a passport may be reconsidered without the payment of an additional passport application fee by the submission of adequate documentation within 90 days after the date of a notice of denial.

* * * * *

3. Section 51.63 is amended by removing paragraphs (b) through (d), by redesignating paragraphs (e) and (f) as paragraphs (b) and (c), respectively, and by revising the introductory text to read as follows:

§ 51.63 Refunds.

A collected passport application fee shall be refunded:

* * * * *

Dated: February 23, 2000.
Bonnie R. Cohen,
Under Secretary for Management, Department of State.

[FR Doc. 00-6409 Filed 3-15-00; 8:45 am]

BILLING CODE 4710-06-U